DEPARTMENT OF TRANSPORTATION

Federal Transit Administration

Transit Asset Management (TAM) Pilot Program

AGENCY: Federal Transit Administration, United States Department of Transportation.

ACTION: Request for Proposals (RFP).

SUMMARY: The Federal Transit Administration (FTA) is soliciting proposals from public transportation providers, state Departments of Transportation (DOT), and Metropolitan Planning Organizations (MPO)—individually or in partnership—to demonstrate effective Transit Asset Management (TAM) systems and “best practices”, which can be replicated to improve transportation asset management at the nation's rail and bus public transportation agencies. Public sector applicants may partner with asset management system suppliers; however the official proposer must be a public agency. The TAM pilot program is intended to address several public transportation asset management challenges identified in previous research by FTA.¹ FTA contemplates making multiple cooperative agreement awards for TAM pilot projects to varied teams.

¹ National State of Good Repair Assessment, June 2010 and Transit Asset Management Practices—A National and International Review, July 2010.

The total available funding for the TAM pilot program is $3 million. FTA will award cooperative agreements, up to $1 million each, to successful proposers for pilot projects that will demonstrate certain aspects of TAM systems. Successful TAM pilot projects will promote the use of advanced tools and practices throughout the public transportation industry. FTA is looking for innovative approaches to asset management using proven technology that will enhance the ability of public transportation providers, MPOs, and state DOTs to maintain their assets in a state of good repair and/or make more informed resource allocation decisions. Proposed solutions must be scalable and transferable such that they can be adapted by public transportation agencies and organizations of various sizes and modes. Additionally, FTA seeks to provide technical assistance to public transportation agencies through written reports and technical knowledge to be provided under the cooperative agreements.

DATES: Proposals must be submitted electronically by January 18, 2011.

ADDRESSES: Proposals shall be submitted electronically to http://www.grants.gov. The Web site allows organizations to find and apply for funding opportunities electronically from all Federal grant-making agencies and is the single access point for over 1,000 cooperative agreement programs offered by the 26 Federal grant-making agencies.

Mail and fax submissions will not be accepted (excluding supplemental information which cannot be sent electronically).

FOR FURTHER INFORMATION CONTACT: Contact Aaron C. James, Director, Office of Engineering, (202) 493-0107, aaron.james@dot.gov for proposal-specific information and issues.

I. Funding Authority

The FY 2010 DOT-HUD appropriations bill provides significant resources to FTA to encourage improved management of the condition and recapitalization of the Nation's transit infrastructure. Specifically, the bill states:

“Asset Management—The conference agreement includes $5,000,000 to develop asset management plans, technical assistance, data collection and a pilot program as proposed by the Senate. The House did not include similar language. The conferees expect the pilot program to include transit agencies that vary in size and direct FTA to report findings to the House and Senate Committees on appropriations within 18 months of enactment.”

FTA is using a portion of this research funding, authorized by 49 U.S.C. 5312, to support research in asset management practices and condition assessment methodologies, as well as new data collection and analysis activities. $3 million has been reserved for the pilot projects being solicited in this RFP.

II. Background and Objectives

FTA is one of eleven agencies in the Department of Transportation (DOT) and has the primary responsibility of carrying out the Federal mandate of promoting and improving the nation's public transportation system. As part of its role, FTA provides over $10 billion annually in financial assistance to transit agencies and states for building and maintaining public transportation systems. There is growing concern that a significant portion of the nation's public transportation assets are in need of capital reinvestment due to the historically inadequate level of financial resources available for maintenance and asset replacement activities and/or an inability by agencies to set appropriate recapitalization priorities due to a lack of effective and easily adopted asset condition assessment tools and systems.

The National State of Good Repair Assessment, published by FTA in June 2010, indicated that roughly one-third of the nation's public transit assets (weighted by replacement value) are in marginal or poor condition and that almost $80 billion is needed to bring them into a “state of good repair.” It has been widely acknowledged that asset management practices in the public transportation sector have not received the same level of technical advancement or attention as have those used for the nation's highways and public utilities. FTA commissioned a review of “Transit Asset Management Practices—National and International” and posted this report to its Web site in July 2010. The review found that while several transit agencies are utilizing TAM systems of one form or another, there are many transit agencies without a system in place for managing the condition of their capital assets in a holistic manner. Effective TAM systems use quality data and well-defined objectives as part of a systematic process to strategically maintain, and improve, capital assets, resulting in the optimal allocation and utilization of available funding.

To help increase the number of transit agencies with complete and up-to-date capital asset inventories and improve the level of asset management in the public transportation industry as a whole, FTA is looking to partner with transit agencies, state DOTs, MPOs, and asset management system suppliers to demonstrate innovative approaches for managing transportation assets from the initial capital asset acquisition planning phase to the asset recapitalization phase.

Referring to the diagram below, this TAM pilot program is aimed at demonstrating solutions to asset management challenges in each of the four phases of the asset management cycle, as well as improvements to the overall asset management flow and approach.

FTA intends to disseminate innovative and/or improved asset management methods developed as part of this pilot program to the industry-at-large so that public transportation agencies, state DOTs and MPOs can prioritize their transit asset repair, recapitalization and replacement needs, and develop reasonable cost/schedule estimates for achieving a “state of good repair”. Asset management tools that will promote better management of safety-related public transportation capital assets will be of particular interest.

FTA will participate in TAM pilot program activities at the project level by attending review meetings, commenting on technical reports, and maintaining frequent contact with the project manager. FTA subject matter experts (staff or contractors) will also be included in the project evaluations.

Proposers will be required to assist FTA in reporting the TAM pilot program's progress to Congress, as necessary.

III. Schedule

The successful proposers will be announced in late February 2011 with an anticipated Notice to Proceed (NTP) in early March, 2011.

IV. Eligibility

All proposals must meet the following minimum requirements to be eligible for further consideration of a cooperative agreement award:

1. All proposing entities and/or teams must provide written certification that they have existing TAM systems and practices currently in use and are willing to provide a system demonstration.

2. New systems and solutions, if proposed, must be a recent evolution of an existing system in use.

3. Proposing entities and/or teams must already possess the technical capacity and capability to complete the TAM project.

4. Asset management system suppliers must have currently available commercial products to qualify as an asset management system supplier; however products proposed do not necessarily have to be commercially available at the time of the proposal submission but must be a recent evolution of a currently available commercial product if new.

5. Any proposed software system must explicitly state what data formats and communication protocols are supported “off the shelf” and whether or not they are proprietary in nature. [Note: A strong preference for software products that promote data interoperability between diverse types of information technology systems through use of open data formats and standard data communication protocols is desired by FTA.]

6. Transit asset management systems and solutions proposed must have a high probability of being successfully implemented in lieu of newer, high-risk or experimental proposals involving unproven systems.

7. Must be completed within 18 months or less.

8. Must result in asset management tools and practices that can be implemented at reasonable cost other agencies of varying sizes and modal composition. More expensive tools or practices can be identified but should be in addition to cost effective solutions, if proposed.

9. Must provide for data compatibility and data transfer with other transit management systems (e.g. maintenance management, financial management, etc.).

V. Proposal Requirements

A. Submission Process

Proposals shall be submitted electronically to http://www.grants.gov. Mailed and faxed submissions will not be accepted (except for supplemental information that cannot be sent electronically).

Please deliver supplemental materials to Doris Lyons, Office of Program Management, Doris.Lyonsmailto:@dot.gov, Federal Transit Administration, 1200 New Jersey Avenue, SE., Room E46-204, Washington, DC 20590.

B. Projects Criteria

Proposals will be evaluated on the basis of their implementation of the following major functionalities. Proposals should specifically address one or more of the following functions and clearly state the function(s) for which a solution is being proposed.

1. Demonstrate innovative approaches to public transportation systems planning at the state DOT or MPO level that incorporates the long-term costs of maintaining the systems in a state of good repair (SGR) including:

a. Ensuring agency policy goals and objectives are aligned with an approach focused on achieving and maintaining a state of good repair.

b. Setting comprehensive policy intended to minimize life-cycle costs and maximize asset serviceability.

c. Implementing an asset management system as part of a strategic plan for managing assets from cradle to grave, including initial funding and financing scenarios.

2. Provide a transit capital asset inventory database with sufficient capacity and functionality to track all categories of public transportation capital assets combined:

a. Specifying data items and protocol, for each asset,

b. Specifying data collection methods, and

c. Tracking complex assets, such as vehicles, facilities, and structures, at the system component and major subcomponents level.

3. Demonstrate proven asset inspection methods including frequency and general criteria for identifying deficiencies, taking into account other industry practices (e.g. use of state highway bridge inspection procedures on elevated structures) that can be effectively applied throughout the public transportation industry, for:

a. Assessing the physical condition of all asset categories, especially those providing a safety critical function,

b. Providing a comprehensive set of performance measures for rating asset condition at the system component level (e.g. vehicles, facilities, stations, etc.) and major subcomponents level (e.g. escalators, elevators, etc.).

c. Performing and tracking required maintenance for all asset inventory categories.

4. Provide methodologies to better prioritize reinvestment needs including:

a. Life-cycle planning of long-lived assets such as maintenance facilities, systems infrastructure and underground structures.

b. Innovative ways to evaluate the effects of capital reinvestment decisions on system performance in terms of capacity, safety, reliability, maintainability, and operating costs.

c. Risk-based approaches that factor in the risks associated with deteriorating asset conditions as opposed to just relying on an asset's age to set recapitalization priorities.

d. The ability to perform scenario analysis involving both constrained and unconstrained needs, as well as the ability to project the optimal distribution of work given likely funding levels along with estimated impacts associated with deferred maintenance.

5. Simplify and improve the integrity of asset condition data collection through the use of technology and process re-engineering.

For purposes of this TAM pilot program, FTA is primarily interested in pursuing the TAM projects described above however, other TAM projects may be proposed as long as they are consistent with FTA's stated objectives in Section II and they meet the eligibility requirements in Section IV.

Upon completion of FTA's proposal review, evaluation, scoring and ranking process, FTA reserves the right to negotiate cooperative agreement awards for entire proposal offerings or specific portions of proposals.

C. Proposal Content

Proposals shall be limited to 60 pages in total length and shall contain the following:

1. Cover sheet (1 page)—Includes the entity submitting the proposal, the principal investigator's name, title, and contact information (e.g. address, phone, fax, and e-mail). Name and contact information for the entity's key point(s) of contact for all cooperative activities (if different from the principle investigator).

2. Abstract (2 pages)—Abstract shall include project background, purpose, demonstration methodology, intended outcomes, and method of measuring how successful the project has been in achieving the intended outcomes.

3. Statement of Eligibility—The eligibility requirements (as listed in Section IV above) should be addressed in narrative form and include a “waiver letter” stating FTA will have unrestricted rights to use data outputs generated.

4. Project narrative (not to exceed 30 pages)—Project narrative shall include the following information:

a. Project Understanding and TAM approach—Understanding of FTA's goals and objectives the problem to be addressed, beyond the description provided by FTA in this RFP; and the proposed approach for executing the research project. Particular attention should be given to describing how the proposing entity will ensure that the proposed TAM project will result in beneficial systems and solutions that can be readily implemented at other agencies of varying sizes and modes.

b. Past Experience—Experience in asset management implementation and knowledge of public transportation management issues related to asset management.

c. Technical Capacity—Technical experience and ability of the proposing organization to address asset management issues identified in this RFP and the availability of key project resources.

5. Preliminary Project Implementation Plan that includes well defined objectives, resources, tasks to accomplish the objectives and a schedule of activities with timelines, and deliverables.

6. A Small Business (SB) Subcontracting Plan detailing how small businesses will be utilized as members of the proposing team. Joint ventures with Disadvantaged Business Enterprise (DBE) firms (i.e., Small Business owned and controlled by Minorities, Women or Disabled Veterans) with requisite experience are encouraged.

In addition to the required proposal elements, proposers have the option to submit supplemental material such as: Brochures, publications, products, letters of support etc. Such supplemental materials, when submitted in appendices, will not be considered a part of the 60-page proposal limit.

D. Deliverables

Successful proposers are not required to deliver proprietary systems information to FTA. The following are required:

1. Monthly progress reports with a narrative describing progress on key milestone activities, monthly and cumulative budget expenditures, SB and DBE utilization, problems encountered and work planned for the next month.

2. A detailed Project Implementation Plan within 15 working days of receiving a Notice to Proceed (NTP).

3. Fifteen (15) bound copies (including 5 color copies) and an electronic copy in PDF format of an Interim Report presenting objectives, approach, interim findings and recommendations along with supporting data by May 30, 2011.

4. A presentation of the Interim Report, at FTA headquarters or via webinar/conference call by June 6, 2011.

5. Fifteen (15) bound copies (including 5 color copies) and an electronic copy in PDF format of a Preliminary Report presenting objectives, approach, preliminary findings, and recommendations, supporting data, and comments from FTA on the Interim Report, no later than 4 months after completion of Interim Report.

6. A presentation of the Preliminary Report, at FTA headquarters or via webinar/conference call within two weeks of submission of Preliminary Report.

7. Fifteen (15) bound copies (including 5 color copies) and an electronic copy in PDF format of a Final Report, addressing preliminary report findings and FTA comments, no later than 16 months after NTP.

8. A presentation of the Final Report at FTA headquarters or via webinar/conference call within two weeks of submission of the Final Report.

9. Forty (40) hours of technical assistance by suitable staff to participate in information exchange forums such as webinars, meetings, teleconferences, or workshops to explain TAM solution.

10. TAM software methodology, solutions and non proprietary TAM systems information with appropriate level of documentation and recommended practice(s) in a medium compatible with FTA software system(s).

Proposers should plan on providing at least one of the three presentations required above, in person to FTA at its headquarters in Washington, DC. FTA will make every effort to accommodate webinars or conference calls for the other two presentations.

Other deliverables, if applicable, will be negotiated prior to award of the cooperative agreement(s). Electronic copies of all deliverables must be provided in PDF format and in Microsoft Office.

VI. Evaluation Criteria

Proposals will be evaluated based on the following criteria and scoring system:

1. Project understanding and approach. (25%)

2. Technical capacity. (20%)

3. Product superiority based on the degree to which all eligibility requirements are met or exceeded, including software products that promote data interoperability. (30%).

4. Preliminary Project Implementation Plan. (15%)

5. Small Business Subcontracting Plan detailing how small businesses will be utilized as members of the proposing team. (10%)

After technical proposals have been evaluated, scored and ranked according to overall value, FTA will enter into negotiations with the entities that submitted the highest ranked proposals to set the cooperative agreement project scope and cost.

VII. Award Administration

Following receipt of the FTA Administrator's notification letter, the successful entity(ies) will be required to submit its proposal through the FTA Transportation Electronic Award Management (TEAM) system. FTA will manage the cooperative agreement(s) through the TEAM system. Before FTA may award Federal financial assistance through a Federal cooperative agreement, the entity must submit all certifications and assurances pertaining to itself and its project as required by Federal laws and regulations. The Fiscal Year 2011 Annual List of Certifications and Assurances for FTA Cooperative Agreements and Guidelines will be published in the Federal Register and posted on the FTA Web site at http://www.fta.dot.gov.

VIII. Agency Contact

Contact Aaron C. James, Director, Office of Engineering, (202) 493-0107, aaron.james@dot.gov for proposal-specific information and issues.

Issued in Washington, DC this 15th day of November 2010.
Peter Rogoff,
Administrator.

[FR Doc. 2010-29176 Filed 11-18-10; 8:45 am]

BILLING CODE P